DEPARTMENT OF TRANSPORTATION

Federal Transit Administration

[Docket No.: FTA-2008-0035]

National Transit Database: Natural Disaster Adjustments for Urbanized Area Apportionments

AGENCY: Federal Transit Administration (FTA), DOT.

ACTION: Notice of Proposed New Policy on Natural Disaster Adjustments for Urbanized Area Formula Grant Apportionment Data

SUMMARY: This notice provides interested parties with the opportunity to comment on the Federal Transit Administration's (FTA) National Transit Database (NTD) proposed new policy on natural disaster adjustments to NTD data. If a transit provider suffers a marked decrease in transit service due to a natural disaster, FTA proposes to allow that transit provider to be “held harmless” in the apportionment of formula grants for urbanized areas. In this case, FTA would use the transit provider's data from the NTD report year before the natural disaster in the apportionment, but use data from the current NTD report year for all other transit providers. Under this proposed policy, FTA would only make this adjustment upon the request of the affected transit provider or the designated recipient for the urbanized area, and FTA would grant this request at its discretion based on the disaster's demonstrated severity and impacts. FTA proposes for this policy to take effect for the 2007 NTD Report Year, which is the data to be used in the FY 2009 apportionment of formula grants for urbanized areas.

DATES: Comments must be received on or before September 15, 2008. FTA will consider comments filed after this date to the extent practicable.

ADDRESSES: You may submit comments [identified by FTA Docket ID Number FTA-2008-0035] at the Federal eRulemaking Portal at: http://www.regulations.gov. Follow the online instructions for submitting comments.

Fax: 202-493-2251.

Mail: Docket Management Facility: U.S. Department of Transportation, 1200 New Jersey Avenue, SE., West Building, Ground Floor, Room W12-140, Washington, DC 20590-0001.

Hand Delivery or Courier: West Building Ground Floor, Room W12-140, 1200 New Jersey Avenue, SE, between 9 a.m. and 5 p.m. ET, Monday through Friday, except Federal holidays.

Instructions: When submitting comments you must use docket number FTA-2008-0035. This will ensure that your comment is placed in the correct docket. If you submit comments by mail, you should submit two copies and include the above docket number. Note that all comments received will be posted, without change, to http://www.regulations.gov including any personal identifying information.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) was established by Congress “to help meet the needs of * * * the public for information on which to base public transportation service planning * * *” (49 U.S.C 5335). To support this goal, recipients or beneficiaries of Urbanized Area Formula Grants (Section 5307) or Other Than Urbanized Area Formula (Section 5311) Grants are required to report to the NTD. Other providers of transit service in urbanized areas report voluntarily to the NTD. Currently, over 650 transit agencies in urbanized areas report to the NTD through an Internet-based reporting system. Each year, performance data from these submissions are used to apportion over $5 billion of FTA funds under the Urbanized Area Formula Grants and Fixed-Guideway Modernization Grants Programs. These data are also used in the annual National Transit Summaries and Trends report, the biennial Conditions and Performance Report to Congress, and in meeting FTA's obligations under the Government Performance and Results Act.

FTA currently allows a transit provider that is severely impacted by a natural disaster to request a waiver from reporting to the NTD for the current year. This policy is based on the NTD Rule (49 CFR Part 630), which provides for a waiver from the mandatory NTD reporting requirements if reporting to the NTD would cause “unreasonable expense or inconvenience.” When FTA grants such a waiver to an urbanized area reporter that has previously reported to the NTD, FTA automatically includes data from the last-available NTD report year for the reporter in the apportionment of formula grants for urbanized areas. However, FTA does not currently have policies or procedures that would allow it to use NTD data from a prior report year in the apportionment of formula grants for urbanized areas for a transit provider that is able to report for the current year.

II. Proposed Policy Change

If a transit provider suffers a marked decrease in transit service due to a natural disaster, FTA proposes to allow that transit provider to be “held harmless” in the apportionment of formula grants for urbanized areas. The affected provider may request that their data from the NTD report year before the natural disaster occurred be used in place of data for the current report year in the apportionment. FTA would continue to use data from the current NTD report year for all other transit providers in the apportionment. The designated recipient for an urbanized area may also make this request on behalf of an affected provider. This adjustment would not be automatic, and FTA will not make this adjustment unless requested by the affected provider or the designated grant recipient for the urbanized area.

Under the proposed policy, FTA would approve or deny the request for the adjustment at its discretion. FTA will base its decision on the following factors: (1) Whether a Federal disaster declaration was in place for all or part of the current report year, for either all or part of the transit provider's service area; (2) whether the adjustment request demonstrates that the decrease in transit service from the report year before the natural disaster is in large part due to the ongoing impacts of the natural disaster; and (3) whether the decrease in transit service reasonably appears to be temporary, and thus not reflective of the true transit needs of the urbanized area. FTA will not grant adjustment requests that do not address all of these factors. Adjustment requests should include sufficient documentation to allow FTA to evaluate the request based on these factors. FTA may request additional information from an applicant for an adjustment to evaluate the request based on these factors. If the adjustment request is granted, the NTD data in all publicly-available data sets and data products would remain unadjusted, and would reflect the actual NTD submission for the transit provider. The only adjustment would be in the data sets used for the apportionments of formula grants for urbanized areas.

FTA proposes for this policy to take effect for the 2007 NTD Report Year, which is the data to be used in the FY 2009 apportionment of formula grants for urbanized areas. This policy would remain in effect for the 2008 NTD Report Year, and will be included in the NTD Annual Manual for the 2009 Report Year.

Issued in Washington, DC, this 8th day of August 2008.
James S. Simpson,
Administrator.

[FR Doc. E8-18939 Filed 8-12-08; 4:15 pm]

BILLING CODE 4910-57-P